NUCLEAR REGULATORY COMMISSION

Application for a License To Export Radioactive Waste

Pursuant to 10 CFR 110.70(c) “Public notice of receipt of an application”, please take notice that the Nuclear Regulatory Commission has received the following application for an export license. Copies of the application are available electronically through ADAMS and can be accessed through the Public Electronic Reading Room (PERR) link <http://www.nrc.gov/NRC/ADAMS/index.html> at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

The information concerning the application follows.

NRC Export License Application
Name of applicant, date of application, date received, application number | Description of material: Material type | Description of material: Total qty | Description of material: End use | Country of destination
Bayou Steel Corp., October 6, 1999, January 24, 2000, XW004 | Radioactive waste Class A mixed hazardous waste | 70.73 tons of arc furnace dust containing <1300 pCi/g Cesium-137 | For disposal at Stablex Canada, Inc | Canada.

For the Nuclear Regulatory Commission.
Dated this 10th day of February, 2000 at Rockville, Maryland.
Ronald D. Hauber,
Deputy Director, Office of International Programs.

[FR Doc. 00-3629 Filed 2-15-00; 8:45 am]

BILLING CODE 7590-01-P